DEPARTMENT OF ENERGY

Federal Energy Regulatory Commission

[Docket No. RP00-596-000]

Colorado Interstate Gas Company; Notice of Tariff Filing

October 3, 2000.

Take notice that on September 29, 2000, Colorado Interstate Gas Company (CIG), tendered for filing to become part of its FERC Gas Tariff, First Revised Volume No. 1, the tariff sheets listed in Appendix A to the filing, to be effective March 27, 2000.

CIG states that tariff sheets reflect the change in Right-of-First Refusal provisions permitted by the Commission's Order No. 637, 637-A and 637-B (collectively referred to as Order No. 637). Specifically, effective on or after March 27, 2000, the firm shipper's contract must be for service for twelve consecutive months or more at applicable maximum rate for that service, except that a contract for more than one year, for a service which is not available for 12 consecutive months, would be subject to the Right-of-First Refusal.

CIG also states it is making some clarifications concerning incremental rates and a shipper not having the right to exercise the right of first refusal for a geographic portion of its agreement.

CIG further states that copies of this filing have been served on CIG's jurisdictional customers and public bodies.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-25857 Filed 10-6-00; 8:45 am]

BILLING CODE 6717-01-M